DEPARTMENT OF COMMERCE

National Oceanic and Atmospheric Administration

RIN 0648-XX37

Endangered and Threatened Species; Recovery Plan for the Sei Whale

AGENCY: National Marine Fisheries Service, National Oceanic and Atmospheric Administration, Commerce.

ACTION: Notice of availability; request for comments.

SUMMARY: The National Marine Fisheries Service (NMFS) announces the availability for public review of the draft Recovery Plan (Plan) for the sei whale (Balaenoptera borealis). NMFS is soliciting review and comment from the public and all interested parties on the Plan, and will consider all substantive comments received during the review period before submitting the Plan for final approval.

DATES: Comments on the draft Plan must be received by close of business on September 6, 2011.

ADDRESSES: You may submit comments, identified by [0648- XX37], by any of the following methods:

Electronic Submissions: Submit all electronic public comments via the Federal eRulemaking Portal http://www.regulations.gov.

Mail: Angela Somma, National Marine Fisheries Service, Office of Protected Resources, Endangered Species Division, 1325 East-West Highway, Silver Spring, MD 20910.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Shannon Bettridge (301-427-8437), e-mail Shannon.Bettridge@noaa.gov or Larissa Plants (301-427-8471), e-mail Larissa.Plants@noaa.gov.

SUPPLEMENTARY INFORMATION:

Background

Recovery plans describe actions beneficial to the conservation and recovery of species listed under the Endangered Species Act of 1973 (ESA), as amended (16 U.S.C. 1531 et seq.). Section 4(f)(1) of the ESA requires that recovery plans incorporate: (1) Objective, measurable criteria which, when met, would result in a determination that the species is no longer threatened or endangered; (2) site-specific management actions necessary to achieve the Plan's goals; and (3) estimates of the time required and costs to implement recovery actions. The ESA requires the development of recovery plans for each listed species unless such a plan would not promote its recovery.

The sei whale has been listed as “endangered” under the Endangered Species Act (ESA) since its passage in 1973. Sei whales are widely distributed in the world's oceans and most populations were reduced, some of them considerably, by extensive commercial whaling in the 1950s through the early 1970s. They were hunted by modern whalers primarily after the preferred larger (or more easily taken) baleen whale species had been seriously depleted, including the right (Eubalaena spp.), humpback (Megaptera novaeangliae), gray (Eschrichtius robustus), blue (Balaenoptera musculus), and fin (Balaenoptera physalus) whales. International protection for this species only began in the 1970s, but the taking of sei whales continued at relatively low levels by Icelandic and Japanese operations. Of the commercially exploited “great whales,” the sei whale is one of the least well studied, and the current status of most sei whale stocks is poorly known. Sei whales have a global distribution and can be found in the North Atlantic Ocean, North Pacific Ocean, and Southern Hemisphere. Currently, the population structure of sei whales has not been adequately defined.

Because the current status of sei whales is unknown, the primary purpose of the draft Recovery Plan is to provide a research strategy to obtain data necessary to estimate population abundance, trends, and structure and to identify factors that may be limiting sei whale recovery. The draft Recovery Plan incorporates an adaptive management strategy that divides recovery actions into three tiers. Tier I includes: (1) Continued international regulation of whaling; (2) determining population size, trends, and structure using opportunistic data collection in conjunction with passive acoustic monitoring, if determined to be feasible; and (3) continued stranding response and associated data collection. After ten years of conducting Tier I actions, NMFS expects to evaluate this approach to determine if the approach is providing sufficient demographic data to assess recovery (or if more efficient data collection methods become available). If the Tier I method proves to be sufficient, NMFS will continue Tier I data collection activities. If Tier I data collection methods are insufficient, NMFS will consider Tier II actions, building upon research conducted during Tier I. Tier II adds more extensive directed demographic survey research and actions that are dependent upon acquiring comprehensive information (e.g., assessment of threats currently ranked as unknown). Tier III recovery actions depend upon data collected in Tiers I and/or II. When sufficient data are obtained, Tier III recovery activities will be undertaken as feasible. Costs have been estimated for Tier I recovery actions only.

Criteria for the reclassification of the sei whale are included in the final Recovery Plan. In summary, the sei whale may be reclassified from endangered to threatened when all of the following have been met: (1) Given current and projected threats and environmental conditions, the sei whale population in each ocean basin in which it occurs (Atlantic Ocean, Pacific Ocean, and Southern Hemisphere) satisfies the risk analysis standard for threatened status (has no more than a 1 percent chance of extinction in 100 years) and the global population has at least 1,500 mature, reproductive individuals (consisting of at least 250 mature females and at least 250 mature males in each ocean basin). Mature is defined as the number of individuals known, estimated, or inferred to be capable of reproduction. Any factors or circumstances that are thought to substantially contribute to a real risk of extinction that cannot be incorporated into a Population Viability Analysis will be carefully considered before downlisting takes place; and (2) none of the known threats to sei whales are known to limit the continued growth of populations. Specifically, the factors in 4(a)(l) of the ESA are being or have been addressed: (A) The present or threatened destruction, modification or curtailment of a species' habitat or range; (B) overutilization for commercial, recreational or educational purposes; (C) disease or predation; (D) the inadequacy of existing regulatory mechanisms; and (E) other natural or manmade factors. The population will be considered for delisting if all of the following can be met: (1) Given current and projected threats and environmental conditions, the total sei whale population in each ocean basin in which it occurs (Atlantic Ocean, Pacific Ocean, and Southern Hemisphere) satisfies the risk analysis standard for unlisted status (has less than a 10 percent probability of becoming endangered (has more than a 1 percent chance of extinction in 100 years) in 20 years). Any factors or circumstances that are thought to substantially contribute to a real risk of extinction that cannot be incorporated into a Population Viability Analysis will be carefully considered before delisting takes place; and (2) none of the known threats to sei whales are known to limit the continued growth of populations. Specifically, the factors in 4(a)(l) of the ESA are being or have been addressed.

The time and cost to recovery is not predictable with the current information and global listing of sei whales. The difficulty in gathering data on sei whales and uncertainty about the success of passive acoustic monitoring in fulfilling data needs make it impossible to give a timeframe to recovery. While we are comfortable estimating costs for the first 10 years of plan implementation for Tier I actions ($11.872 million), any projections beyond this date are likely to be imprecise and unrealistic until we can determine the success of passive acoustic monitoring of sei whales to obtain demographic data. The anticipated date for removal from the endangered species list also cannot be determined because of the uncertainty in the success of passive acoustic monitoring of sei whales. The effectiveness of many management activities is not known on a global level. Currently it is impossible to predict when such measures will bring the species to a point at which the protections provided by the ESA are no longer warranted, or even determine whether the species has recovered enough to be downlisted or delisted. In the future, as more information is obtained it should be possible to make more informative projections about the time to recovery, and its expense.

NMFS will consider all substantive comments and information presented during the public comment period in the course of finalizing this Plan. NMFS concludes that the Draft Recovery Plan meets the requirements of the ESA.

Authority: 16 U.S.C. 1531 et seq.

Dated: July 18, 2011.
Therese Conant,
Deputy Chief, Endangered Species Division, Office of Protected Resources, National Marine Fisheries Service.

[FR Doc. 2011-18583 Filed 7-21-11; 8:45 am]

BILLING CODE 3510-22-P